DEPARTMENT OF ENERGY

Federal Energy Regulatory Commission

[Docket No. ER00-2157-001, et al.]

Commonwealth Edison Company, et al.; Electric Rate and Corporate Regulation Filings

May 17, 2000.

Take notice that the following filings have been made with the Commission:

1. Commonwealth Edison Company

[Docket No. ER00-2157-001]

Take notice that on May 12, 2000, Commonwealth Edison Company (ComEd) tendered for filing Amendment No. 1 to the Interconnection Agreement between ComEd and Des Plaines Green Land Development L.L.C. (Des Plaines), which ComEd filed with the Commission on April 10, 2000 in Docket No. ER00-2157-000.

ComEd requests the same effective date of April 11, 2000, for Amendment No. 1 as it requested for the Interconnection Agreement in its April 10, 2000 filing.

Copies of the filing were served on Des Plaines and the Illinois Commerce Commission.

Comment date: June 2, 2000, in accordance with Standard Paragraph E at the end of this notice.

2. AES Eastern Energy, L.P.

[Docket No. ER00-2463-000]

Take notice that on May 10, 2000, AES Eastern Energy, L.P. (AES Eastern), tendered for filing two long-term service agreements. Both contracts are between AES Eastern and Aquila Risk Management Corporation.

Comment date: May 30, 2000, in accordance with Standard Paragraph E at the end of this notice.

3. Commonwealth Edison Company

[Docket No. ER00-2472-000]

Take notice that on May 12, 2000, Commonwealth Edison Company (ComEd) tendered for filing pursuant to Section 35.15 of the Federal Energy Regulatory Commission's regulations, 18 CFR 35.15, a Notice of Cancellation of Service Agreement Nos. 76, 15, and 163 between ComEd and Sonat Power Marketing, L.P. (Sonat), and a Notice of Cancellation of Service Agreement No. 7 between ComEd and Illinova Energy Partners, Inc. (IEP) under ComEd's Open Access Transmission Tariff (OATT).

ComEd requests an effective date of May 12, 2000, for the cancellations and accordingly requests waiver of the Commission's notice requirements.

ComEd served copies of the filing upon EPME, and Dynegy, the successors in interest to Sonat and IEP, respectively.

Comment date: June 2, 2000, in accordance with Standard Paragraph E at the end of this notice.

4. American Electric Power Service Corporation Central and South West Services, Inc.

[Docket No.ER00-2473-000]

Take notice that on May 12, 2000, American Electric Power Service Corporation tendered for filing, on behalf of the operating company subsidiaries of American Electric Power Company, Inc. and Central and South West Corporation, proposed amendments to the Open Access Transmission Tariff accepted for filing by the Commission in Docket No. ER98-2786-000.

Comment date: June 2, 2000, in accordance with Standard Paragraph E at the end of this notice.

5. Southern Indiana Gas and Electric Company

[Docket No. ER00-2474-000]

Take notice that on May 12, 2000, Southern Indiana Gas and Electric Company (SIGECO), tendered for filing service agreements for firm and non-firm transmission service under Part II of its Transmission Services Tariff with Cinergy Capital & Trading, Inc. (CCT), and MIECO, Inc.

Copies of the filing were served upon each of the parties to the service agreement.

Comment date: June 2, 2000, in accordance with Standard Paragraph E at the end of this notice.

6. Jersey Central Power & Light Company

[Docket No. ER00-2475-000]

Take notice that on May 12, 2000, Jersey Central Power & Light Company (doing business and referred to as GPU Energy), tendered for filing two amendments to the Interconnection Agreement, dated as of March 1, 1978, as amended, between GPU Energy and Atlantic City Electric Company (Agreement). The amendments revise a component of the rate for service under the Agreement relating to GPU Energy's O&M expense for 2000 and 2001.

Comment date: June 2, 2000, in accordance with Standard Paragraph E at the end of this notice.

7. Commonwealth Edison Company

[Docket No. ER00-2476-000]

Take notice that on May 12, 2000, Commonwealth Edison Company (ComEd), tendered for filing a Notice of Cancellation for Service Agreement No. 334 (between ComEd and Commonwealth Edison Company, in its Wholesale Merchant Function (WMD) for Firm Point-to-Point Transmission Service under ComEd's Open Access Transmission Tariff (OATT), and submits for filing a firm service agreement (New Service Agreement) between ComEd and WMD under ComEd's Open Access Transmission Tariff, FERC Electric Tariff Volume No. 5 (OATT).

ComEd requests an effective date of May 1, 2000, for the New Service Agreement and the cancellation of Service Agreement No. 334, and accordingly, seeks waiver of the Commission's notice requirements.

Copies of this filing were served on WMD.

Comment date: June 2, 2000, in accordance with Standard Paragraph E at the end of this notice.

8. Western Systems Power Pool

[Docket No. ER00-2477-000]

Take notice that on May 12, 2000, the Western Systems Power Pool (WSPP), tendered for filing certain revisions to the WSPP Agreement. The WSPP states that these changes are intended to clarify certain provisions relating to firm sales, and to allow the WSPP members to modify certain provisions of the WSPP Agreement on a transaction-specific basis as agreed to by the parties.

The WSPP seeks an effective date of July 1, 2000 for this filing.

The WSPP states that copies of this filing have been served upon all state commissions within the continental United States and all members of the WSPP.

Comment date: June 2, 2000, in accordance with Standard Paragraph E at the end of this notice.

9. Virginia Electric and Power Company

[Docket No. ER00-2478-000]

Take notice that on May 12, 2000, Virginia Electric and Power Company (Virginia Power), tendered for filing a service agreement for Firm Point-to-Point Transmission Service by Virginia Electric and Power Company to Amerada Hess Corporation and a Service Agreement for Non-Firm Point-to-Point Transmission Service by Virginia Electric and Power Company to Amerada Hess Corporation.

The foregoing Service Agreements are tendered for filing under the Open Access Transmission Tariff to Eligible Purchasers dated July 14, 1997. Under the tendered Service Agreements, Virginia Power will provide point-to-point service to the Transmission Customer under the rates, terms and conditions of the Open Access Transmission Tariff.

Virginia Power requests an effective date of May 12, 2000, the date of filing of the Service Agreements.

Copies of the filing were served upon Amerada Hess Corporation, the Virginia State Corporation Commission and the North Carolina Utilities Commission.

Comment date: June 2, 2000, in accordance with Standard Paragraph E at the end of this notice.

10. Madison Gas and Electric Company

[Docket No. ER00-2479-000]

Take notice that on May 12, 2000, Madison Gas and Electric Company (MGE), tendered for filing a service agreement under MGE's Market-Based Power Sales Tariff with The Dayton Power and Light Company.

MGE requests this agreement be effective the date the agreement was filed with the FERC.

Comment date: June 2, 2000, in accordance with Standard Paragraph E at the end of this notice.

11. Wisconsin Electric Power Company

[Docket No. ER00-2480-000]

Take notice that on May 12, 2000, Wisconsin Electric Power Company (Wisconsin Electric), tendered for filing a Short-Term Firm Transmission Service Agreement and a non-firm Transmission Service Agreement between itself and NewEnergy Inc. (NewEnergy). The Transmission Service Agreements allow NewEnergy to receive transmission services under Wisconsin Energy Corporation Operating Companies' FERC Electric Tariff, Volume No. 1.

Wisconsin Electric requests an effective date coincident with its filing and waiver of the Commission's notice requirements in order to allow for economic transactions as they appear.

Copies of the filing have been served on NewEnergy, the Public Service Commission of Wisconsin and the Michigan Public Service Commission.

Comment date: June 2, 2000, in accordance with Standard Paragraph E at the end of this notice.

12. Wisconsin Electric Power Company

[Docket No. ER00-2481-000]

Take notice that on May 12, 2000, Wisconsin Electric Power Company (Wisconsin Electric), tendered for filing a short-term firm Transmission Service Agreement and a non-firm Transmission Service Agreement between itself and Calpine Power Services Company (Calpine). The Transmission Service Agreements allow Calpine to receive transmission services under Wisconsin Energy Corporation Operating Companies' FERC Electric Tariff, Volume No. 1.

Wisconsin Electric requests an effective date coincident with its filing and waiver of the Commission's notice requirements in order to allow for economic transactions as they appear.

Copies of the filing have been served on Calpine, the Public Service Commission of Wisconsin and the Michigan Public Service Commission.

Comment date: June 2, 2000, in accordance with Standard Paragraph E at the end of this notice.

13. Central Power and Light Company, West Texas Utilities Company, Public Service Company of Oklahoma, Southwestern Electric Power Company

[Docket No. ER00-2482-000]

Take Notice that on May 12, 2000, Central Power and Light Company, West Texas Utilities Company, Public Service Company of Oklahoma and Southwestern Electric Power Company (collectively, the CSW Operating Companies), tendered for filing revised pages to the CSW Operating Companies' open access transmission service tariff (CSW OATT).

The CSW Operating Companies state that a copy of the filing was served on the Public Utility Commission of Texas, the Oklahoma Corporation Commission, the Arkansas Public Service Commission, the Louisiana Public Service Commission, and on all persons with whom the CSW Operating Companies have entered into service agreements under the CSW OATT.

Comment date: June 2, 2000, in accordance with Standard Paragraph E at the end of this notice.

14. New Century Services, Inc.

[Docket No. ER00-2483-000]

Take notice that on May 12, 2000, New Century Services, Inc. (NCS), on behalf of Public Service Company of Colorado (Public Service), tendered for filing the Master Power Purchase and Sale Agreement between Public Service and Sempra Energy Trading Corp., which is an umbrella service agreement under Public Service's Rate Schedule for Market-Based Power Sales (Public Service FERC Electric Tariff, Original Volume No. 6).

NCS requests that this agreement become effective on April 14, 2000.

Comment date: June 2, 2000, in accordance with Standard Paragraph E at the end of this notice.

15. Tucson Electric Power Company

[Docket No. ER00-2484-000]

Take notice that on May 12, 2000, Tucson Electric Power Company tendered for filing an Umbrella Agreement for Short-Term Firm Point-to-Point Transmission Service dated as of May 4, 2000 by and between Tucson Electric Power Company and Southern California Edison Company. No service has commenced at this time, and also a Non-Firm Service Agreement dated as of May 4, 2000 by and between Tucson Electric Power Company and Southern California Edison Company. Service commenced on April 13, 2000.

Comment date: June 2, 2000, in accordance with Standard Paragraph E at the end of this notice.

16. Allegheny Energy Service Corporation, on behalf of Allegheny Energy Supply Company, LLC

[Docket No. ER00-2499-000]

Take notice that on May 12, 2000, Allegheny Energy Service Corporation on behalf of Allegheny Energy Supply Company, LLC (Allegheny Energy Supply), tendered for filing Amendment No. 3 to Supplement No. 23 to the Market Rate Tariff to incorporate a Netting Agreement with New York State Electric & Gas Corporation into the tariff provisions.

Allegheny Energy Supply requests a waiver of notice requirements to make the Amendment effective as of May 3, 2000 or such other date as ordered by the Commission.

Copies of the filing have been provided to the Public Utilities Commission of Ohio, the Pennsylvania Public Utility Commission, the Maryland Public Service Commission, the Virginia State Corporation Commission, the West Virginia Public Service Commission, and all parties of record.

Comment date: June 2, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-13219 Filed 5-25-00; 8:45 am]

BILLING CODE 6717-01-P